NATIONAL SCIENCE FOUNDATION

Advisory Committee for GPRA Performance Assessment (13853); Notice of Meeting

In accordance with the Federal Advisory Committee Act (Pub. L. 92-463, as amended) the National Science Foundation announces the following meeting.

Name: Advisory Committee for GPRA Performance Assessment (AC/GPA).

Date and Time: June 16, 2005, 8:30 a.m.-5:30 p.m.; June 17, 2005; 8:30 a.m.-5:00 p.m.

Place: National Science Foundation, 4201 Wilson Boulevard, Arlington, VA 22230, Room 375. If you are attending the meeting and need access to the NSF building, please contact Joan Miller (jlmiller@nsf.gov) for a visitor's badge.

Contact: Joan Miller, Administrative Manager, BFA, National Science Foundation, Room 405, Arlington, Virginia. Phone: 703-292-8200.

Type of Meeting: Open.

Purpose of Meeting: To provide advice and recommendations to the National Science Foundation (NSF) Director regarding the Foundation's performance as it relates to the Government Performance and Results Act of 1993 (GPRA).

Agenda: Topics include retrospective accomplishments of NSF awards as they relate to performance indicators associated with the National Science Foundation's People, Ideas, Tools, (P, I, T) and Organizational Excellence (OE) strategic outcome goals; the quality, relevance, and balance of NSF award portfolios; and issues involving innovative, high risk, and multidisciplinary research and education proposals.

Thursday, June 16, 2005

Welcome and Introductions; Charge to the Committee; Overview Presentations of NSF Performance Assessment, Merit Review, and Broadening Participation. The Committee will then divide into subgroups to review and discuss retrospective accomplishments under the People, Ideas, Tools, and OE goals.

Friday, June 17, 2005

The Committee reconvenes as a Committee of the Whole to hear progress reports from the P, I, T, and OE subgroups and then divides into those subgroups for further discussion. In the afternoon, the Committee of the Whole reconvenes to discuss its findings, recommendations, and preparation of the final report.

Dated: May 17, 2005.
Suzanne Bolton,
Committee Management Officer.

[FR Doc. 05-10137 Filed 5-17-05; 12:31 am]

BILLING CODE 7555-01-M